DEPARTMENT OF ENERGY

Federal Energy Regulatory Commission

[Docket No. RP02-190-000]

Northern Border Pipeline Company; Notice of Proposed Changes in FERC Gas Tariff

March 7, 2002.

Take notice that on March 1, 2002, Northern Border Pipeline Company (Northern Border) tendered for filing to become part of Northern Border Pipeline Company's FERC Gas Tariff, First Revised Volume No. 1, the following tariff sheets, with an effective date of April 1, 2002:

Sixth Revised Sheet No. 119

Fourth Revised Sheet No. 270

Original Sheet No. 270A

First Revised Sheet No. 406

Second Revised Sheet No. 407

First Revised Sheet No. 429B

Northern Border is filing revised tariff sheets to revise Subsection 5.1 of Northern Border's Rate Schedule T-1, and Subsection 26.2(b) of the General Terms and Conditions and to make associated housekeeping changes to Exhibit A of the U.S. Shippers and T-1B Service Agreements.

Northern Border states that the proposed changes will provide more flexibility and expand the alternatives and that Shippers and Northern Border have in contracting for firm capacity.

Northern Border states that copies of this filing have been sent to all of Northern Border's contracted shippers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-6008 Filed 3-12-02; 8:45 am]

BILLING CODE 6717-01-P